DEPARTMENT OF STATE

[Public Notice 7585]

Bureau of Economic, Energy and Business Affairs; Persons on Whom Sanctions Have Been Imposed Under the Iran Sanctions Act of 1996

AGENCY: Department of State.

ACTION: Notice.

SUMMARY: The Secretary of State has determined that the following persons have engaged in sanctionable activity described in section 5(a) of the Iran Sanctions Act of 1996 (Pub. L. 104-172) (50 U.S.C. 1701 note) (“ISA”), as amended by the Comprehensive Iran Sanctions, Accountability, and Divestment Act of 2010 (Pub. L. 111-195) (“CISADA”), and that certain sanctions should be imposed as a result: Allvale Maritime Inc., Associated Shipbroking, Petrochemical Commercial Company International, Petróleos de Venezuela S.A., Royal Oyster Group, Société Anonyme Monégasque D'Administration Maritime Et Aérienne, Speedy Ship, and Tanker Pacific Management (Singapore) Pte. Ltd.

DATES: Effective Date: The sanctions on Associated Shipbroking, Petrochemical Commercial Company International, Petróleos de Venezuela S.A., Royal Oyster Group, Speedy Ship, and Tanker Pacific Management (Singapore) Pte. Ltd. are effective May 24, 2011. The sanctions on Allvale Maritime Inc. and Société Anonyme Monégasque D'Administration Maritime Et Aérienne, a clarification of the sanctions announced for “Ofer Brothers Group” in a May 24, 2011 announcement from the Department of State, are effective August 26, 2011.

FOR FURTHER INFORMATION CONTACT: On general issues: Norman Galimba, Office of Terrorism Finance and Economic Sanctions Policy, Department of State, Telephone: (202) 647-9183. For U.S. Government procurement ban issues: Daniel Walt, Office of the Procurement Executive, Department of State, Telephone: (703) 516-1696.

SUPPLEMENTARY INFORMATION: Pursuant to the authority delegated to the Secretary of State in the Presidential Memorandum of September 23, 2010, 75 FR 67025 (the “Delegation Memorandum”), the Secretary has determined that the following persons have engaged in sanctionable activity described in section 5(a) of the ISA, as amended by the CISADA: Allvale Maritime Inc., Associated Shipbroking, Petrochemical Commercial Company International, Petróleos de Venezuela S.A., Royal Oyster Group, Société Anonyme Monégasque D'Administration Maritime Et Aérienne, Speedy Ship, and Tanker Pacific Management (Singapore) Pte. Ltd. Société Anonyme Monégasque D'Administration Maritime Et Aérienne and Allvale Maritime Inc. are a corporate manager and a ship owning company, respectively, for the Ofer international shipping group, referred to as the “Ofer Brothers Group” in a May 24, 2011 announcement from the U.S. Department of State.

Pursuant to section 5(a) of the ISA and the Delegation Memorandum, the Secretary determined to impose on Allvale Maritime Inc. the following sanctions described in section 6 of the ISA:

1. Export-Import Bank assistance for exports to sanctioned persons. The Export-Import Bank of the United States shall not give approval to the issuance of any guarantee, insurance, extension of credit, or participation in the extension of credit in connection with the export of any goods or services to Allvale Maritime Inc.

2. Export sanction. The United States Government shall not issue any specific license and shall not grant any other specific permission or authority to export any goods or technology to Allvale Maritime Inc. under—

a. The Export Administration Act of 1979 (50 U.S.C. Appx. 2401 et seq.);

b. The Arms Export Control Act (22 U.S.C. 2751 et seq.);

c. The Atomic Energy Act of 1954 (42 U.S.C. 2011 et seq.); or

d. Any other statute that requires the prior review and approval of the United States Government as a condition for the export or reexport of goods or services.

3. Loans from United States financial institutions. United States financial institutions shall be prohibited from making loans or providing credits to Allvale Maritime Inc. totaling more than $10,000,000 in any 12-month period unless Allvale Maritime Inc. is engaged in activities to relieve human suffering and the loans or credits are provided for such activities.

These sanctions apply with respect to Allvale Maritime Inc. and not to any subsidiary, affiliate, or shareholder thereof unless separately identified.

Pursuant to section 5(a) of the ISA and the Delegation Memorandum, the Secretary determined to impose on Associated Shipbroking (a.k.a. SAM) the following sanctions described in section 6 of the ISA:

1. Foreign exchange. Any transactions in foreign exchange that are subject to the jurisdiction of the United States and in which Associated Shipbroking has any interest shall be prohibited.

2. Banking transactions. Any transfers of credit or payments between financial institutions or by, through, or to any financial institution, to the extent that such transfers or payments are subject to the jurisdiction of the United States and involve any interest of Associated Shipbroking, shall be prohibited.

3. Property transactions. It shall be prohibited to:

a. Acquire, hold, withhold, use, transfer, withdraw, transport, import, or export any property that is subject to the jurisdiction of the United States and with respect to which Associated Shipbroking has any interest;

b. Deal in or exercise any right, power, or privilege with respect to such property; or

c. Conduct any transaction involving such property.

Based on the sanctions imposed on Associated Shipbroking, these prohibitions also apply with respect to any person in which Associated Shipbroking has an interest of fifty percent or more.

Pursuant to section 5(a) of the ISA and the Delegation Memorandum, the Secretary determined to impose on Petrochemical Commercial Company International (a.k.a. PCCI) the following sanctions described in section 6 of the ISA:

1. Foreign exchange. Any transactions in foreign exchange that are subject to the jurisdiction of the United States and in which Petrochemical Commercial Company International has any interest shall be prohibited.

2. Banking transactions. Any transfers of credit or payments between financial institutions or by, through, or to any financial institution, to the extent that such transfers or payments are subject to the jurisdiction of the United States and involve any interest of Petrochemical Commercial Company International, shall be prohibited.

3. Property transactions. It shall be prohibited to:

a. Acquire, hold, withhold, use, transfer, withdraw, transport, import, or export any property that is subject to the jurisdiction of the United States and with respect to which Petrochemical Commercial Company International has any interest;

b. Deal in or exercise any right, power, or privilege with respect to such property; or

c. Conduct any transaction involving such property.

Based on the sanctions imposed on Petrochemical Commercial Company International, these prohibitions also apply with respect to any person in which Petrochemical Commercial Company International has an interest of fifty percent or more.

Pursuant to section 5(a) of the ISA and the Delegation Memorandum, the Secretary determined to impose on Petróleos de Venezuela S.A. the following sanctions described in section 6 of the ISA:

1. Export-Import Bank assistance for exports to sanctioned persons. The Export-Import Bank of the United States shall not give approval to the issuance of any guarantee, insurance, extension of credit, or participation in the extension of credit in connection with the export of any goods or services to Petróleos de Venezuela S.A.

2. Export sanction. The United States Government shall not issue any specific license and shall not grant any other specific permission or authority to export any goods or technology to Petróleos de Venezuela S.A. under—

a. The Export Administration Act of 1979 (50 U.S.C. Appx. 2401 et seq.);

b. The Arms Export Control Act (22 U.S.C. 2751 et seq.);

c. The Atomic Energy Act of 1954 (42 U.S.C. 2011 et seq.); or

d. Any other statute that requires the prior review and approval of the United States Government as a condition for the export or reexport of goods or services.

3. Procurement sanction. The United States Government shall not procure, or enter into any contract for the procurement of, any goods or services from Petróleos de Venezuela S.A.

These sanctions apply with respect to Petróleos de Venezuela S.A. and not to any subsidiary, affiliate, or shareholder thereof unless separately identified.

Pursuant to section 5(a) of the ISA and the Delegation Memorandum, the Secretary determined to impose on Royal Oyster Group the following sanctions described in section 6 of the ISA:

1. Foreign exchange. Any transactions in foreign exchange that are subject to the jurisdiction of the United States and in which Royal Oyster Group has any interest shall be prohibited.

2. Banking transactions. Any transfers of credit or payments between financial institutions or by, through, or to any financial institution, to the extent that such transfers or payments are subject to the jurisdiction of the United States and involve any interest of Royal Oyster Group, shall be prohibited.

3. Property transactions. It shall be prohibited to:

a. Acquire, hold, withhold, use, transfer, withdraw, transport, import, or export any property that is subject to the jurisdiction of the United States and with respect to which Royal Oyster Group has any interest;

b. deal in or exercise any right, power, or privilege with respect to such property; or

c. conduct any transaction involving such property.

Based on the sanctions imposed on Royal Oyster Group, these prohibitions also apply with respect to any person in which Royal Oyster Group has an interest of fifty percent or more.

Pursuant to section 5(a) of the ISA and the Delegation Memorandum, the Secretary determined to impose on Société Anonyme Monégasque D'Administration Maritime Et Aérienne (a.k.a. S.A.M.A.M.A., a.k.a. SAMAMA) the following sanctions described in section 6 of the ISA:

1. Export-Import Bank assistance for exports to sanctioned persons. The Export-Import Bank of the United States shall not give approval to the issuance of any guarantee, insurance, extension of credit, or participation in the extension of credit in connection with the export of any goods or services to Société Anonyme Monégasque D'Administration Maritime Et Aérienne.

2. Export sanction. The United States Government shall not issue any specific license and shall not grant any other specific permission or authority to export any goods or technology to Société Anonyme Monégasque D'Administration Maritime Et Aérienne under—

a. The Export Administration Act of 1979 (50 U.S.C. Appx. 2401 et seq.);

b. The Arms Export Control Act (22 U.S.C. 2751 et seq.);

c. The Atomic Energy Act of 1954 (42 U.S.C. 2011 et seq.); or

d. Any other statute that requires the prior review and approval of the United States Government as a condition for the export or reexport of goods or services.

3. Loans from United States financial institutions. United States financial institutions shall be prohibited from making loans or providing credits to Société Anonyme Monégasque D'Administration Maritime Et Aérienne totaling more than $10,000,000 in any 12-month period unless Société Anonyme Monégasque D'Administration Maritime Et Aérienne is engaged in activities to relieve human suffering and the loans or credits are provided for such activities.

These sanctions apply with respect to Société Anonyme Monégasque D'Administration Maritime Et Aérienne and not to any subsidiary, affiliate, or shareholder thereof unless separately identified.

Pursuant to section 5(a) of the ISA and the Delegation Memorandum, the Secretary determined to impose on Speedy Ship (a.k.a SPD) the following sanctions described in section 6 of the ISA:

1. Foreign exchange. Any transactions in foreign exchange that are subject to the jurisdiction of the United States and in which Speedy Ship has any interest shall be prohibited.

2. Banking transactions. Any transfers of credit or payments between financial institutions or by, through, or to any financial institution, to the extent that such transfers or payments are subject to the jurisdiction of the United States and involve any interest of Speedy Ship, shall be prohibited.

3. Property transactions. It shall be prohibited to:

a. Acquire, hold, withhold, use, transfer, withdraw, transport, import, or export any property that is subject to the jurisdiction of the United States and with respect to which Speedy Ship has any interest;

b. deal in or exercise any right, power, or privilege with respect to such property; or

c. conduct any transaction involving such property.

Based on the sanctions imposed on Speedy Ship, these prohibitions also apply with respect to any person in which Speedy Ship has an interest of fifty percent or more.

Pursuant to section 5(a) of the ISA and the Delegation Memorandum, the Secretary determined to impose on Tanker Pacific Management (Singapore) Pte. Ltd. the following sanctions described in section 6 of the ISA:

1. Export-Import Bank assistance for exports to sanctioned persons. The Export-Import Bank of the United States shall not give approval to the issuance of any guarantee, insurance, extension of credit, or participation in the extension of credit in connection with the export of any goods or services to Tanker Pacific Management (Singapore) Pte. Ltd.

2. Export sanction. The United States Government shall not issue any specific license and shall not grant any other specific permission or authority to export any goods or technology to Tanker Pacific Management (Singapore) Pte. Ltd. under—

a. The Export Administration Act of 1979 (50 U.S.C. Appx. 2401 et seq.);

b. The Arms Export Control Act (22 U.S.C. 2751 et seq.);

c. The Atomic Energy Act of 1954 (42 U.S.C. 2011 et seq.); or

d. Any other statute that requires the prior review and approval of the United States Government as a condition for the export or reexport of goods or services.

3. Loans from United States financial institutions. United States financial institutions shall be prohibited from making loans or providing credits to Tanker Pacific Management (Singapore) Pte. Ltd. totaling more than $10,000,000 in any 12-month period unless Tanker Pacific Management (Singapore) Pte. Ltd. is engaged in activities to relieve human suffering and the loans or credits are provided for such activities.

These sanctions apply with respect to Tanker Pacific Management (Singapore) Pte. Ltd. and not to any subsidiary, affiliate, or shareholder thereof unless separately identified.

The sanctions described above with respect to each of the persons listed shall remain in effect until otherwise directed pursuant to the provisions of the ISA or other applicable authority. Pursuant to the authority delegated to the Secretary of State in the Delegation Memorandum, relevant agencies and instrumentalities of the United States Government shall take all appropriate measures within their authority to carry out the provisions of this notice. The Secretary of the Treasury is taking appropriate action to implement the sanctions for which authority has been delegated to the Secretary of the Treasury pursuant to the Delegation Memorandum and Executive Order 13574 of May 23, 2011.

The following constitutes a current, as of this date, list of persons on whom sanctions are imposed under the ISA. The particular sanctions imposed on an individual company are identified in the relevant Federal Register Notice.

—Allvale Maritime Inc.;

—Associated Shipbroking (a.k.a. SAM);

—Belarusneft (see Public Notice 7408, 76 FR 18821, April 5, 2011);

—Naftiran Intertrade Company (see Public Notice 7197, 75 Fed. Reg. 62916, Oct. 13, 2010).

—Petrochemical Commercial Company International (a.k.a. PCCI);

—Petróleos de Venezuela S.A.;

—Royal Oyster Group;

—Société Anonyme Monégasque D'Administration Maritime Et Aérienne (a.k.a. S.A.M.A.M.A., a.k.a. SAMAMA);

—Speedy Ship (a.k.a. SPD);

—Tanker Pacific Management (Singapore) Pte. Ltd.

Dated: September 6, 2011.
Jose Fernandez,
Assistant Secretary of State for Economic, Energy and Business Affairs.

[FR Doc. 2011-23541 Filed 9-13-11; 8:45 am]

BILLING CODE 4710-07-P